DEPARTMENT OF ENERGY

Federal Energy Regulatory Commission

[Docket No. EG01-31-000, et al.]

CIC Luxembourg SARL, et al.; Electric Rate and Corporate Regulation Filings

November 27, 2000.

Take notice that the following filings have been made with the Commission:

1. CIC Luxembourg SARL

[Docket No. EG01-31-000]

Take notice that on November 17, 2000, CIC Luxembourg SARL filed with the Federal Energy Regulatory Commission an application for determination of exempt wholesale generator status pursuant to Part 365 of the Commission's regulations.

Comment date: December 18, 2000, in accordance with Standard Paragraph E at the end of this notice. The Commission will limit its consideration of comments to those that concern the adequacy or accuracy of the application.

2. Mobile Energy LLC

[Docket No. EG01-32-000]

Take notice that on November 20, 2000, Mobile Energy LLC (Applicant) with its principal office c/o SkyGen Energy LLC, Edens Corporate Center, 650 Dundee Road, Suite 350, Northbrook, Illinois 60062, filed with the Federal Energy Regulatory Commission (Commission) an application for determination of “exempt wholesale generator” status pursuant to Part 365 of the Commission's regulations.

Applicant states that it will be engaged in owning and operating the Mobile Energy Center (the Facility) consisting of one combustion turbine generating unit, one separately-fired heat recovery boiler, and up to four condensing steam turbine generating units having a maximum electrical output of approximately 345 MW. The Facility will be constructed in the City of Mobile, Alabama and commercial operation is anticipated to be approximately the second quarter of 2001. The Applicant also states that it will sell electric energy exclusively at wholesale to meet electricity needs in the region.

Comment date: December 18, 2000, in accordance with Standard Paragraph E at the end of this notice. The Commission will limit its consideration of comments to those that concern the adequacy or accuracy of the application.

3. Magnolia Energy LP

[Docket No. EG01-33-000]

Take notice that on November 21, 2000, Magnolia Energy LP (Magnolia), a limited partnership with its principal place of business at 909 Fannin, Suite 2222, Houston, Texas 77010, filed with the Federal Energy Regulatory Commission (Commission) an application for determination of exempt wholesale generator status pursuant to Part 365 of the Commission's regulations.

Magnolia will construct a 900 MW natural gas fired, combined cycle electric generating facility and related assets to be located near the town of Ashland, Mississippi. Magnolia will sell its capacity exclusively at wholesale.

Comment date: December 18, 2000, in accordance with Standard Paragraph E at the end of this notice. The Commission will limit its consideration of comments to those that concern the adequacy or accuracy of the application.

4. Midwest Independent Transmission System Operator, Inc.

[Docket No. ER98-1438-007]

Take notice that on November 20, 2000, the Midwest Independent Transmission System Operator, Inc. (the Midwest ISO), tendered for filing its Open Access Transmission Tariff (OATT), FERC Electric Tariff, Original Volume No. 1, and Agreement of Transmission Facilities Owners to Organize the Midwest ISO (Owners Agreement), Rate Schedule FERC No. 1, both of which were previously accepted for filing in Docket No. ER98-1438-000, and both of which have been reformatted to conform to the requirements of Order No. 614, FERC Stats. & Regs. ¶ 31,096 (2000).

The Midwest ISO seeks an effective date of November 20, 2000 (the same day of filing) and waiver of the Commission's sixty days' notice requirements. The Midwest ISO also seeks waiver of the Commission's regulations, 18 CFR 385.2010 with respect to service on all parties on the official service list in Docket No. ER98-1438-000. The Midwest ISO has posted its reformatted OATT on its Internet site at www.midwestiso.org. The Midwest ISO will provide hard copies to any interested parties upon request.

Comment date: December 11, 2000, in accordance with Standard Paragraph E at the end of this notice.

5. Golden Spread Electric Cooperative, Inc.; The Montana Power Trading and Marketing Company

[Docket Nos. ER00-3338-002, ER00-3367-002, and ER00-3368-002]

Take notice that on November 17, 2000, the Western Systems Power Pool (WSPP) tendered for filing a list of customers in compliance with the Federal Energy Regulatory Commission's November 2, 2000 order in the proceedings captioned above.

Comment date: December 8, 2000, in accordance with Standard Paragraph E at the end of this notice.

6. Praxair, Inc.

[Docket No. ER00-3767-001]

Take notice that on November 17, 2000, Praxair, Inc., tendered for filing a corrected Rate Schedule in compliance with the Commission's Order No. 614.

Comment date: December 8, 2000, in accordance with Standard Paragraph E at the end of this notice.

7. USPowerEnergy, L.L.C.

[Docket No. ER01-36-001]

Take notice that on November 17, 2000, USPowerEnergy, L.L.C. (USPE) tendered for filing with the Federal Energy Regulatory Commission a compliance filing pursuant to the Commission's order in USPowerEnergy, L.L.C., Docket No. ER01-36-001 (Letter Order Issued November 2, 2000).

USPowerEnergy, L.L.C., stated that it served a copy of its filing upon each person designated on the official service list compiled by the Secretary in this proceeding.

Comment date: December 8, 2000, in accordance with Standard Paragraph E at the end of this notice.

8. Entergy Services, Inc.

[Docket No. ER01-155-001]

Take notice that on November 17, 2000, Entergy Services, Inc. (Entergy), on behalf of Entergy Gulf States, Inc., tendered for filing an amendment to its October 18, 2000 filing in Docket No. ER01-155-000, which amended Exhibit A to the Agreement for Special Requirements Wholesale Electric Service between Entergy Gulf States and East Texas Electric Cooperative, Inc., Sam Rayburn G&T Electric Cooperative, Inc., and Tex-La Electric Cooperative of Texas, Inc. Entergy states that the amendment to the October 18 filing serves to conform that filing with the Commission's Order No. 614, Designation of Electric Rate Schedule Sheets, 90 FERC ¶ 61,352 (2000).

Comment date: December 8, 2000, in accordance with Standard Paragraph E at the end of this notice.

9. American Transmission Company LLC

[Docket No. ER01-380-000]

Take notice that on November 6, 2000, American Transmission Company, LLC (ATCLLC), tendered for filing a Generation Transmission Interconnection Agreement between ATCLLC and Madison Gas and Electric Company.

ATCLLC requests an effective date of January 1, 2001.

Comment date: December 13, 2000, in accordance with Standard Paragraph E at the end of this notice.

10. New York Independent System Operator, Inc.

[Docket No. ER01-461-000]

Take notice that on November 15, 2000, the New York Independent System Operator, Inc. (NYISO) filed a complete version of FERC Electric Tariff Original Volume No. 1, the Open Access Transmission Tariff, in order to comply with Commission Order No. 614, on the designation of electric rate schedules. The filing effects no substantive changes to the tariff.

The NYISO has requested an effective date of September 1, 2000 for the filing, and has requested waiver of the Commission's notice requirements.

The NYISO has requested waiver of the Commission's service requirements. The document is available for download from the NYISO's website at www.nyiso.com. Copies will be provided upon request.

Comment date: December 6, 2000, in accordance with Standard Paragraph E at the end of this notice.

11. Southern Company Services, Inc.

[Docket No. ER01-464-000]

Take notice that on November 17, 2000, Southern Company Services, Inc. (SCS), acting on behalf of Alabama Power Company (APC), tendered an Interconnection Agreement (IA) by and between APC and Tenaska Alabama II Partners, L.P. (Tenaska Alabama). The IA allows Tenaska Alabama to interconnect its generating facility to be located near Billingsley, Alabama in Autauga County to APC's electric system.

An effective date of October 25, 2000 has been requested.

Comment date: December 8, 2000, in accordance with Standard Paragraph E at the end of this notice.

12. New England Power Company

[Docket No. ER01-465-000]

Take notice that on November 16, 2000, New England Power Company (as successor to Montaup Electric Company) (NEP) tendered for filing:

(1) Supplement No. 6 to Service Agreement No. 10 (Newport Electric Corporation) under Montaup Electric Company, FERC Electric Tariff, First Revised Volume No. 1; and

(2) Supplement No. 6 to Service Agreement No. 11 (Blackstone Valley Electric Company) under Montaup Electric Company, FERC Electric Tariff, First Revised Volume No. 1.

These Supplements take the form of a Stipulation and Agreement between Rhode Island Public Utilities Commission, the Rhode Island Division of Public Utilities and Carriers, The Narragansett Electric Company (as successor to Blackstone Valley Electric Company and Newport Electric Corporation), and NEP (as successor to Montaup Electric Company).

Comment date: December 8, 2000, in accordance with Standard Paragraph E at the end of this notice.

13. Ameren Energy, Inc. on behalf of Union Electric Company d/b/a AmerenUE, Ameren Energy Marketing Company and Ameren Energy Generating Company

[Docket No. ER01-466-000]

Take notice that on November 17, 2000, Ameren Energy, Inc., on behalf of Union Electric Company d/b/a AmerenUE, Ameren Energy Market Company, and Ameren Energy Generating Company (collectively, the Ameren Parties), pursuant to section 205 of the Federal Power Act, 16 U.S.C. § 824d, and the market-based rate authority provided to the Ameren Parties, submitted for filing a bilateral Master Power Purchase and Sale Agreement.

Comment date: December 8, 2000, in accordance with Standard Paragraph E at the end of this notice.

14. Jersey Central Power & Light Company, Metropolitan Edison Company, and Pennsylvania Electric Company

[Docket No. ER01-467-000]

Take notice that on November 17, 2000, Jersey Central Power & Light Company, Metropolitan Edison Company and Pennsylvania Electric Company (each doing business and hereinafter collectively referred to as GPU Energy) submit for filing minor amendments to the Restated Composite Power Pooling Agreement among the GPU Energy companies. The Restated Agreement governs the integrated operation of the three GPU Energy companies. It is on file with the Commission as Jersey Central Power & Light Company, Rate Schedule No. 72, Metropolitan Edison Company, Rate Schedule No. 74 and Pennsylvania Electric Company, Rate Schedule No. 111.

Comment date: December 8, 2000, in accordance with Standard Paragraph E at the end of this notice.

15. Dominion Energy Marketing, Inc.

[Docket No. ER01-468-000]

Take notice that on November 17, 2000, Dominion Nuclear Marketing, Inc. tendered for filing its proposed FERC Electric Market-Based Sales Tariff and certain waivers of the Commission's regulations.

Comment date: December 8, 2000, in accordance with Standard Paragraph E at the end of this notice.

16. South Carolina Electric & Gas Company

[Docket No. ER01-470-000]

Take notice that on November 17, 2000, South Carolina Electric & Gas Company (SCE&G), tendered for filing executed service agreements with New Horizons Electric Cooperative, Inc. (NHEC) providing for transmission and ancillary services on a long-term basis pursuant to SCE&G's Open Access Transmission Tariff.

The parties proposed an effective date of January 1, 2001.

Comment date: December 8, 2000, in accordance with Standard Paragraph E at the end of this notice.

17. Consolidated Edison Company of New York, Inc.

[Docket No. ER01-471-000]

Take notice that on November 17, 2000, Consolidated Edison Company of New York, Inc. (Con Edison) tendered for filing a Supplement to its Rate Schedule, Con Edison Rate Schedule FERC No. 123, a facilities agreement with Central Hudson Gas and Electric Corporation (CH).

Con Edison has requested that this supplement take effect as of August 1, 2000.

Con Edison states that a copy of this filing has been served by mail upon CH.

Comment date: December 8, 2000, in accordance with Standard Paragraph E at the end of this notice.

18. New York State Electric & Gas Corporation

[Docket No. ER01-472-000]

Take notice that on November 17, 2000 New York State Electric & Gas Corporation (NYSEG) tendered for filing pursuant to Section 205 of the Federal Power Act and Part 35 of the Federal Energy Regulatory Commission's (Commission) Regulations, an Agreement with the Power of the State of New York (also known as New York Power Authority or NYPA). This Agreement provides for the sale of, as well as the design, procurement, installation, testing, operation, and maintenance by NYSEG of a Static Var Compensator and its associated equipment. NYPA will compensate NYSEG for providing such services. Additionally, NYPA will pay monthly actual charges and costs incurred by NYSEG for operation, maintenance, general expenses and taxes.

NYSEG requests an effective date of November 10, 2000.

Copies of the filing were served upon NYPA and the Public Service Commission of the State of New York.

Comment date: December 8, 2000, in accordance with Standard Paragraph E at the end of this notice.

19. Idaho Power Company

[Docket No. ER01-473-000]

Take notice that on November 17, 2000, Idaho Power Company (IPC) tendered for filing with the Federal Energy Regulatory Commission an Agreement for Supply of Power and Energy between Raft River Rural Electric Cooperative and Idaho Power Company dated October 25, 2000.

Comment date: December 8, 2000, in accordance with Standard Paragraph E at the end of this notice.

20. Baconton Power LLC

[Docket No. ER01-474-000]

Take notice that on November 17, 2000, Baconton Power LLC tendered for filing a revised long-term service agreement with Coral Power, L.L.C. pursuant to Baconton Power LLC's market-based tariff, FERC Electric Tariff, Original Vol. No. 1.

Comment date: December 8, 2000, in accordance with Standard Paragraph E at the end of this notice.

21. Entergy Services, Inc.

[Docket No. ER01-475-000]

Take notice that on November 17, 2000, Entergy Services, Inc. (Entergy), on behalf of Entergy Mississippi, Inc., tendered for filing a First Revised Interconnection Agreement with Southaven Power LLC. The First Revised Interconnection Agreement reflects the modifications necessary to conform the Southaven Interconnection Agreement with Entergy's Pro Forma Interconnection Agreement as filed on June 19, 2000, in Docket No. ER00-1743-002.

Comment date: December 8, 2000, in accordance with Standard Paragraph E at the end of this notice.

22. PJM Interconnection, L.L.C.

[Docket No. ER01-476-000]

Take notice that on November 17, 2000, PJM Interconnection, L.L.C. (PJM), tendered for filing the following executed agreements: (i) an agreement for long-term firm point-to-point transmission service for Cargill-Alliant, L.L.C. (Cargill-Alliant), (ii) an umbrella service agreement for short-term firm point-to-point transmission service for the Public Service Company of Colorado (PSCC), and (iii) an umbrella service agreement for non-firm point-to-point transmission service for PSCC.

Copies of this filing were served upon Cargill-Alliant, PSCC, and the state commissions within the PJM control area.

Comment date: December 8, 2000, in accordance with Standard Paragraph E at the end of this notice.

23. Commonwealth Edison Company

[Docket No. ER01-477-000]

Take notice that on November 17, 2000, Commonwealth Edison Company (ComEd), tendered for filing the following: (1) Facilities Rental Agreement between ComEd and the City of Naperville; (2) Meter Lease Agreement between ComEd and the City of Naperville; (3) Meter Lease Agreement between ComEd and the City of Batavia; and (4) Meter Lease Agreement between ComEd and the City of St. Charles (together Agreements) and respectfully requested that the Commission verify ComEd's conclusions that such Agreements are not subject to the Commission's jurisdiction and oversight.

ComEd requests an effective date of December 1, 2000, for the agreements in the event its request for disclaimer of jurisdiction is not granted and accordingly, seeks waiver of the Commission's notice requirements.

Comment date: December 8, 2000, in accordance with Standard Paragraph E at the end of this notice.

24. Consolidated Edison Company of New York, Inc.

[Docket No. ER01-478-000]

Take notice that on November 20, 2000, Consolidated Edison Company of New York, Inc. (Con Edison), tendered the Indian Point 3 Interconnection Agreement between Con Edison and Entergy Nuclear Indian Point 3, LLC, in the above-captioned docket.

Comment date: December 8, 2000, in accordance with Standard Paragraph E at the end of this notice.

25. Midwest Independent Transmission System Operator, Inc.

[Docket No. ER01-479-000]

Take notice that on November 20, 2000, the Midwest Independent Transmission System Operator, Inc. (the Midwest ISO), tendered for filing revised pages to its Open Access Transmission Tariff and Agreement of the Transmission Facilities Owners to Organize the Midwest ISO. The Midwest ISO's revisions expand the Midwest ISO Advisory Committee to include certain members of the Mid-Continent Area Power Pool (MAPP) and provide certain MAPP Transmission Owners with the option of electing Network Transmission Service on behalf of their bundled retail customers.

Copies of this filing were served upon parties listed on the official service list compiled by the Secretary of the Commission in Docket No. ER98-1438-000, the Midwest ISO Members, Members and Alternates of the Midwest ISO Advisory Committee as currently constituted, Members of MAPPCORR and State Commissions in Illinois, Indiana, Iowa, Kentucky, Michigan, Minnesota, Missouri, Montana, North Dakota, Ohio, South Dakota, Virginia, West Virginia and Wisconsin.

Comment date: December 11, 2000, in accordance with Standard Paragraph E at the end of this notice.

26. Mobile Energy LLC

[Docket No. ER01-480-000]

Take notice that on November 20, 2000, Mobile Energy LLC (Mobile Energy), tendered for filing an application for waivers and blanket approvals under various regulations of the Commission and for an order accepting its FERC Electric Rate Schedule No. 1. Mobile Energy proposes that its Rate Schedule No. 1 become effective upon commencement of service of the Mobile Energy Center (the Facility), a 345 MW generation project currently being developed by Mobile Energy in Mobile, Alabama. The Facility is expected to be commercially operable by approximately the second quarter of 2001.

Mobile Energy intends to sell energy, capacity, and certain ancillary services from the Facility in the wholesale power market at market-based rates, and on such terms and conditions to be mutually agreed to with the purchasing party.

Comment date: December 11, 2000, in accordance with Standard Paragraph E at the end of this notice.

27. Public Service Company of New Mexico

[Docket No. ER01-481-000]

Take notice that on November 20, 2000, Public Service Company of New Mexico (PNM), tendered for filing a Request for Waiver of Certain Provisions of the Fuel and Purchase Economic Power Adjustment Clauses and Refund Requirements Under Suspension Orders Regulations (18 CFR 35.14 and 35.19a) (Request). The Request is being made to allow for the inclusion, retroactively, of certain refunds received from Arizona Public Service Company for settlement of various fuel supply issues associated with the Four Corners Power Plant, of which PNM is a participant/owner, in the calculation of charges pursuant to its Fuel and Purchase Economic Power Adjustment Clause in wholesale power contracts for sales to its firm-requirements wholesale customers. The affected customers, both past and present, include the City of Farmington, New Mexico (Farmington), the City of Gallup, New Mexico (Gallup), Texas-New Mexico Power Company (TNMP), Plains Electric Generation and Transmission Cooperative, Inc. (now a part of Tri-State Generation and Transmission Association, Inc. (Tri-State)), and the United States Department of Energy (DOE). PNM's filing is available for public inspection at its offices in Albuquerque, New Mexico.

Copies of the filing have been sent to Farmington, Gallup, TNMP, Tri-State, DOE, and to the New Mexico Public Regulation Commission.

Comment date: December 11, 2000, in accordance with Standard Paragraph E at the end of this notice.

28. NiSource, Inc.

[Docket No. ER01-482-000]

Take notice that on November 20, 2000, NiSource, Inc., tendered for filing Notice of Succession in the above referenced docket.

Comment date: December 11, 2000, in accordance with Standard Paragraph E at the end of this notice.

Standard Paragraphs

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

David P. Boergers,
Secretary.

[FR Doc. 00-30723 Filed 12-1-00; 8:45 am]

BILLING CODE 6717-01-P